DEPARTMENT OF ENERGY

Federal Energy Regulatory Commission

[Docket No. RP03-545-000]

Dominion Cove Point LNG, LP; Notice of Proposed Changes in FERC Gas Tariff

July 9, 2003.

Take notice that on July 2, 2003, Dominion Cove Point LNG, LP (Cove Point) tendered for filing as part of its FERC Gas Tariff, Original Volume No. 1, the following tariff sheets to be effective August 1, 2003:

Second Revised Sheet No. 240

First Revised Sheet No. 241

Second Revised Sheet No. 242

First Revised Sheet No. 243

Second Revised Sheet No. 244

Second Revised Sheet No. 245

Second Revised Sheet No. 246

Second Revised Sheet No. 247

Third Revised Sheet No. 248

First Revised Sheet No. 249

Second Revised Sheet No. 250

Cove Point is proposing revisions to Section 10 of its General Terms and Conditions, Release and Assignment of Service Rights, that rationalize and streamline the provisions and more fully comply with the Commission's current policies regarding capacity release.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 14, 2003.

Magalie R. Salas,
Secretary.

[FR Doc. 03-17894 Filed 7-15-03; 8:45 am]

BILLING CODE 6717-01-P